NUCLEAR REGULATORY COMMISSION

[Docket No. 70-1151]

Westinghouse Electric Company LLC., Environmental Assessment and Issuance of Finding of No Significant Impact Related to Proposed Exemption From the Annual Physical Inventory Frequency Requirement of the Fundamental Nuclear Material Control Plan

AGENCY: Nuclear Regulatory Commission.

ACTION: Finding of no significant impact and environmental assessment.

FOR FURTHER INFORMATION CONTACT: Don Stout, Fuel Cycle Facilities Branch, Division of Fuel Cycle Safety and Safeguards, Office of Nuclear Material Safety and Safeguards, U.S. Nuclear Regulatory Commission, Mail Stop T8-A33, Washington DC 20555-0001, telephone (301) 415-5269 and e-mail des1@nrc.gov.

SUPPLEMENTARY INFORMATION:

I. Introduction

The U.S. Nuclear Regulatory Commission (NRC) is considering the issuance of an amendment to NRC Materials License SNM-1107 to allow a one-time exemption that extends the SNM physical inventory completion date by four days at the Westinghouse Electric Company, LLC, (WEC) facility in Columbia, South Carolina, and has prepared an Environmental Assessment (EA) in support of this action. Based upon the EA, the NRC has concluded that a Finding of No Significant Impact (FONSI) is appropriate, and, therefore, an Environmental Impact Statement (EIS) will not be prepared.

II. Environmental Assessment

Background

The WEC, Nuclear Fuel, Columbia Fuel Fabrication Facility fabricates nuclear fuel assemblies containing low-enriched uranium oxide for use in commercial nuclear power reactors. The NRC staff has received an exemption request (Ref. 1), dated November 21, 2003, to exempt WEC from 10 CFR 74.31(c)(5), requirements that SNM physical inventories be performed at least every 12 months. In Section 5.3.1 of the licensee's NRC approved Fundamental Nuclear Material Control Plan (FNMC), WEC specifies an annual SNM physical inventory will be performed at an interval of at least every 12 months, plus or minus 30 days. Because the last SNM physical inventory was performed on April 18, 2003, the next physical inventory is required to be completed no later than May 18, 2004. WEC requested a license amendment to allow a one-time exemption that extends the SNM physical inventory completion date to May 22, 2004. The purpose of this document is to assess the environmental consequences of the proposed exemption.

Review Scope

The purpose of this EA is to assess the environmental impacts of the exemption request. It does not approve the request. This EA is limited to the extension of the SNM physical inventory date to May 22, 2004, at the Columbia facility. The existing conditions and operations for the Columbia facility were evaluated by the NRC for environmental impacts in a July 12, 1995, EA related to the renewal of the WEC license (Ref. 2). This assessment will determine whether to issue a FONSI or to prepare an EIS. Should the NRC issue a FONSI, no EIS will be prepared.

Proposed Action

The proposed action is to grant an exemption from the requirements in 10 CFR 74.31(c)(5) and allow WEC to extend the completion date of the annual SNM physical inventory to May 22, 2004.

Purpose and Need for Proposed Action

WEC is currently manufacturing nuclear fuel at the Columbia, South Carolina facility. It is requesting an extension from May 18, 2004, to May 22, 2004, to complete its annual SNM physical inventory. This one-time extension expires on May 26, 2004. WEC is requesting this extension because it has a high production workload for the month of April due to the seasonal refueling activities. WEC has indicated that the high production workload may cause significant challenges to achieving a successful and complete physical inventory.

Alternatives

The alternatives available to the NRC are:

1. Approve the exemption request as submitted;

2. No action (i.e., deny the exemption request).

Affected Environment

The affected environment for Alternatives 1 and 2 is the WEC site. A full description of the site and its characteristics is given in the 1995 EA related to the renewal of the WEC license (Ref.1). This plant is located in the central part of South Carolina in Richland County, approximately 8 miles southeast of Columbia. The plant is set back approximately 1800 feet from the nearest roadway on a plot of approximately 1,156 acres near the Congaree River. The site is bounded to the north by Highway 48 (Bluff Road), and by the Congaree River to the south. The area adjacent to the site consists primarily of forest.

Effluent Releases and Monitoring

A full description of the effluent monitoring program at the site is provided in the 1995 EA related to the renewal of the WEC license (Ref. 2). The WEC-Columbia facility conducts effluent and environmental monitoring programs to evaluate potential public health impacts and comply with the NRC effluent and environmental monitoring requirements. The effluent program monitors the airborne, liquid, and solid waste streams produced during operation of the facility. The environmental program monitors the air, surface water, sediment, soil, groundwater, and vegetation in and around the Columbia plant.

Airborne, liquid, and solid effluent streams that contain radioactive material generated at the Columbia facility are monitored to ensure compliance with NRC regulations in 10 CFR Part 20. The results of effluent monitoring are reported on a semi-annual basis to the NRC in accordance with 10 CFR 70.59.

Airborne and liquid effluents are also monitored for nonradiological constituents in accordance with State discharge permits. For the purpose of this EA, the State of South Carolina is expected to set limits on effluents under its regulatory control that are protective of health and safety and the local environment.

Environmental Impacts of Proposed Action

The proposed action will not result in the release of any chemical or radiological constituents to the environment. In addition, the proposed action will not cause any adverse impacts to local land use, biotic resources, or cultural resources.

Environmental Impacts of No Action Alternative

Under the no action alternative, WEC would have to complete the annual SNM physical inventory by May 18, 2004. In order to complete the physical inventory by May 18, 2004, WEC would encounter significant challenges in achieving a successful and complete physical inventory due to a high production workload and the sharing of common resources.

Based on its review, the NRC staff has concluded that the environmental impacts associated with the proposed action are insignificant. Thus, the staff considers that Alternative 1 is the appropriate alternative for selection.

Agencies and Persons Contacted

On April 27, 2004, the NRC staff contacted the South Carolina Department of Health and Environmental Conservation (DHEC) concerning this request. Based on information provided by the NRC, concerning the exemption allowing the extension of the SNM physical inventory completion date, DHEC did not object to granting this exemption and the EA.

The NRC staff has determined that consultation under Section 7 of the Endangered Species Act is not required because the proposed action is administrative in nature and will not affect listed species or critical habitat.

The NRC staff has determined that the proposed action is not a type of activity that has potential to cause effect on historic properties because it is administrative in nature. Therefore, consultation under Section 106 of the National Historic Preservation Act is not required.

References

Unless otherwise noted, a copy of this document and the references listed below will be available electronically for public inspection in the NRC Public Document Room or from the Publicly Available Records (PARS) component of NRC's document system (ADAMS). ADAMS is accessible from the NRC Web site at http://www.nrc.gov/reading-rm/adams.html.

1. Westinghouse Electric Company (WEC), LLC, Letter to the U.S. Nuclear Regulatory Commission, “Request for One-Time Exemption to Annual SNM Physical Inventory Frequency Requirement of Fundamental Nuclear Material Control (FNMC) Plan—License Number SNM-1107, Docket 70-1151, November 21, 2003,” ADAMS No. ML033320331.

2. The U.S. Nuclear Regulatory Commission (NRC), July 1995, “Environmental Assessment for Renewal of Special Nuclear Material License SNM-1107.”

III. Finding of No Significant Impact

Pursuant to 10 CFR Part 51, the NRC staff has considered the environmental consequences of amending WEC Materials License SNM-1107 to exempt WEC from the annual SNM physical inventory requirement in 10 CFR 74.31(c)(5) and extend the completion date. On the basis of this assessment, the Commission has concluded that environmental impacts associated with the proposed action would not be significant and the Commission is making a finding of no significant impact. Accordingly, preparation of an EIS is not warranted.

IV. Further Information

For further details, see the references listed above. Documents may be examined, and/or copied for a fee, at the NRC's Public Document Room (PDR), located at One White Flint North, Room O-1F21, 11555 Rockville Pike, Rockville, Maryland. Publicly available records will be accessible electronically from the Agencywide Document Access and Management System (ADAMS) Public Electronic Reading Room on the Internet at the NRC Web site, http://www.nrc.gov/reading-rm/adams.html. Persons who do not have access to ADAMS or who encounter problems in accessing the documents located in ADAMS, should contact the NRC PDR Reference staff by telephone at 1-800-397-4209 or (301) 415-4737, or by e-mail to pdr@nrc.gov.

Dated at Rockville, Maryland, the 5th day of May 2004.
For the Nuclear Regulatory Commission.
Robert C. Pierson,
Director, Division of Fuel Cycle Safety and Safeguards, Office of Nuclear Material Safety and Safeguards.

[FR Doc. 04-10734 Filed 5-11-04; 8:45 am]

BILLING CODE 7590-01-P